DEPARTMENT OF HOMELAND SECURITY

Transportation Security Administration

[Docket No. TSA-2005-20118]

Intent To Request Renewal From OMB of One Current Public Collection of Information; Maryland Three Airports: Enhanced Security Procedures at Certain Airports in the Washington, DC, Area

AGENCY: Transportation Security Administration, DHS.

ACTION: 60-Day Notice.

SUMMARY: The Transportation Security Administration (TSA) invites public comment on one currently approved Information Collection Request (ICR) abstracted below that we will submit to the Office of Management and Budget (OMB) for renewal in compliance with the Paperwork Reduction Act. The ICR describes the nature of the information collection and its expected burden. This collection requires individuals to successfully complete a security threat assessment in order to operate an aircraft to or from one of the three Maryland airports that are located within the Washington, DC, Metropolitan Area Flight Restricted Zone (Maryland Three airports), or to serve as an airport security coordinator at one of these three airports.

DATES: Send your comments by November 3, 2008.

ADDRESSES: Comments may be mailed or delivered to Joanna Johnson, Office of Information Technology, TSA-11 Transportation Security Administration, 601 South 12th Street, Arlington, VA 22202-4220.

FOR FURTHER INFORMATION CONTACT: Joanna Johnson at the above address, or by telephone (571) 227-3651 or facsimile (571) 227-3588.

SUPPLEMENTARY INFORMATION:

Comments Invited

In accordance with the Paperwork Reduction Act of 1995 (44 U.S.C. 3501 et seq.), an agency may not conduct or sponsor, and a person is not required to respond to a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Information Collection Requirement

OMB control number 1652-0029; Maryland Three Airports: Enhanced Security Procedures at Certain Airports in the Washington, DC, Area, 49 CFR part 1562. TSA published an interim final rule (IFR) on February 10, 2005 (70 FR 7150), that codified and transferred responsibility from the Federal Aviation Administration (FAA) to TSA for ground security requirements and procedures at three Maryland airports that are located within the Washington, DC, Metropolitan Area Flight Restricted Zone (Maryland Three Airports), and for individuals operating aircraft to or from these three airports. The Maryland Three airports are College Park Airport (CGS), Potomac Airfield (VKX), and Washington Executive/Hyde Field (W32). The information collected is used to determine compliance with 49 CFR part 1562.

Part 1562 allows an individual who is approved by TSA to operate an aircraft to or from one of the Maryland Three Airports, or to serve as an airport security coordinator in one of these three airports. In order to be approved, an individual is required to successfully complete a security threat assessment. As part of this threat assessment, an individual (pilot or airport security coordinator) is required to undergo a criminal history records check and a check of Government terrorist watch lists and other databases to determine whether the individual poses, or is suspected of posing, a threat to transportation or national security. An individual will not receive TSA's approval under this analysis if TSA determines or suspects the individual of being a threat to national or transportation security. Prospective pilots must be fingerprinted at the Ronald Reagan Washington National Airport's (DCA) badging office with the airport security coordinator, as well as provide the following information to TSA as part of the application process: Full name, Social Security number, Airmen Certificate number, date of birth, home address, home and work phone numbers, e-mail address, emergency contact number, aircraft make and model, and FAA registration number. The current estimated annual reporting burden is 8,299 hours.

Issued in Arlington, Virginia, on August 26, 2008.
John Manning,
Acting Director, Business Management Office, Office of Information Technology.

[FR Doc. E8-20207 Filed 8-29-08; 8:45 am]

BILLING CODE 9110-05-P